DEPARTMENT OF DEFENSE

Office of the Secretary

[Docket ID: DoD-2010-OS-0052]

Privacy Act of 1974; System of Records; Correction

AGENCY: National Security Agency/Central Security Service, DoD.

ACTION: Notice to amend a system of records; correction.

SUMMARY: On April 23, 2010 (75 FR 21250), DoD published a notice announcing its intent to amend an existing Privacy Act system of records. In one instance an incorrect system ID number was cited. This notice corrects that error.

DATES: Effective May 14, 2010.

FOR FURTHER INFORMATION CONTACT: Ms. Anne Hill at 301-688-6527.

SUPPLEMENTARY INFORMATION: On April 23, 2010, DoD published a notice announcing its intent to amend an existing Privacy Act system of records: The NSA Police Operational Files. Subsequent to the publication of that notice, DoD discovered that the system ID number was missing a zero in one instance (page 21251). This notice corrects that information.

The system ID number on page 21250 is correct.

Correction

In the notice (FR Doc. 2010-9393), published on April 23, 2010 (75 FR 21250) make the following correction. On page 21251, in the second column, line 1, correct the system ID number “GNSA 2” to read “GNSA 20”.

Dated: May 11, 2010.
Mitchell S. Bryman,
Alternate OSD Federal Register Liaison Officer, Department of Defense.

[FR Doc. 2010-11580 Filed 5-13-10; 8:45 am]

BILLING CODE 5001-06-P